DEPARTMENT OF AGRICULTURE

Natural Resources Conservation Service

RIN 0578-AA36

Conservation Security Program

AGENCY: Natural Resources Conservation Service and Commodity Credit Corporation, USDA.

ACTION: Notice.

SUMMARY: This document announces the process to be used in determining priority watershed and the details of the enrollment categories that will be used in the FY 2004 sign-up for the Conservation Security Program.

DATES: The administrative actions announced in the notice are effective on May 4, 2004.

FOR FURTHER INFORMATION CONTACT: Craig Derickson, Conservation Security Program Manager, Conservation Operations Division, NRCS, P.O. Box 2890, Washington, DC 20013-2890, telephone: (202) 720-3524; fax: (202) 720-4265. Submit e-mail to: craig.derickson@usda.gov, Attention: Conservation Security Program.

SUPPLEMENTARY INFORMATION: In a proposed rule published in the Federal Register on January 2, 2004 (69 FR 194), USDA's Natural Resources Conservation Service (NRCS) proposed to establish the Conservation Security Program (CSP). The CSP is a voluntary program administered by NRCS using the authorities and funds of the Commodity Credit Corporation that provides financial and technical assistance to producers who advance the conservation and improvement of soil, water, air, energy, plant and animal life, and other conservation purposes on Tribal and private working lands. Such lands include cropland, grassland, prairie land, improved pasture, and rangeland, as well as forested land and other non-cropped areas that are an incidental part of the agriculture operation.

NRCS proposed to establish eligibility requirements that included determinations based, among other things, on priority watersheds and enrollment categories that will be used for identifying, classifying, and prioritizing contracts to be funded. While NRCS received and reviewed thousands of thoughtful comments no alternative to the watershed approach was found that was a fairer way to operate the program under the constraints in place, since no final rule has yet been adopted. This document announces the process to be used in determining priority watershed and the details of the enrollment categories that will be used in the FY 2004 sign-up.

The Consolidated Appropriations Act, 2004, (2004 Appropriations) amended section 1241(a)(3) of the Food Security Act of 1985 (16 U.S.C. 3841(a)(3)) to remove the permanent program cap of $3.773 billion and set the funding level of the Conservation Security Program (CSP) for fiscal year 2004 at $41.4 million. As a result, the program will operate as a capped entitlement in FY 2004 and is currently authorized as an uncapped entitlement in future fiscal years. Further, by law, NRCS cannot incur technical assistance costs for NRCS employees or approved technical assistance providers in excess of 15 percent of the program funds expended in a fiscal year. Therefore, as noted in the proposed rule, ranking and prioritization must occur to insure that stewardship is rewarded and national natural resource issues are addressed.

Given capped spending authority in FY 2004 and as proposed in the President's 2005 Budget, the Administration wants to focus CSP's activities and benefits in high-priority regions that meet the environmental and philosophical goals of the program. Using watersheds allows for improved watershed-scale planning, program execution, and monitoring and evaluation of results, creating a first-of-its-kind conservation program.

Watersheds form discrete natural spatial units. Using watersheds to allocate funding and assistance will enhance the evaluation of producers' stewardship efforts. Watersheds will reflect the environmental progress we expect from CSP in ways we couldn't expect from working along county or State lines. NRCS expects that the selection of different watersheds for each sign-up will result in every farmer and rancher being potentially eligible for CSP over the next 8 years. No qualifying producer will be left out. A watershed rotation reduces the administrative burden on applicants while it reduces the technical assistance (TA) costs associated with NRCS and its technical service providers processing a large number of applications that cannot be funded.

Rotating the watersheds allows producers to plan and prepare for CSP participation in future sign-ups. Watersheds allow NRCS to focus finite resources on areas with both a documented need for resource enhancement and a strong stewardship tradition. For producers in a selected watershed, this approach means better service when applying, and a higher chance of getting selected. For producers not yet in a selected watershed it means time to improve conservation performance through access to other Farm Bill programs and access to technical service from agency personnel unencumbered by CSP responsibilities. The CSP self-assessment exercise will allow producers to assess their conservation performance for the CSP sign-up and allow for management concerns to be addressed.

The staged implementation will allow agency personnel to refine, streamline, and perfect application procedures as well as self-assessment and self-screening processes.

While the selected process for determining the priority watersheds and the establishment of the enrollment categories will be set out in the CSP final rule, NRCS needs to immediately make those determinations for use in FY 2004, in order to have a sign-up and enrollment of participants in this fiscal year. NRCS will therefore begin using the watershed priority process and will establish enrollment categories immediately upon publication of this notice. This provides a practical means of implementing the program in FY 2004 and staying within the statutory funding and technical assistance constraints. Without moving expeditiously to establish the processes for utilizing priority watersheds and enrollment categories, the CSP will not be implemented in the current fiscal year. The final rule will provide notice and opportunity for comment on the processes for establishment of priority watersheds and the enrollment categories for use in administering CSP for FY 2005.

Process for Selecting Watersheds

The Department published a proposed rule and sought public comment on the preferred CSP alternative, which included a watershed approach (7 CFR 1469.5(e)). The watershed approach may be used with or without an expenditure cap. This would allow NRCS the flexibility to implement the program to reflect changing statutory language.

Three key considerations provide the basis for identifying priority watersheds for the CSP program: (1) To ensure that CSP's limited resources are focused first on the most achievable environmental performance areas; and (2) to address management constraints based on the statutory limit on technical assistance (15 percent); and (3) to provide maximum flexibility for program implementation (i.e., if there are no funding restrictions all watersheds could be eligible). Based on the number of potential applicants, NRCS projects that the technical assistance necessary to operate a nationwide sign-up would exceed the 15 percent statutory limit. While the agency is currently working on many options for streamlining the application process, such as self assessment tools and self screening processes, considerable time and assistance is still required to provide quality service to the applicant and assure quality products for the funds expended. The Agency must have the flexibility to adjust to future potential statutory funding changes within the program by increasing or decreasing the number of watersheds where CSP is offered for sign-up. NRCS will provide additional discussion on this issue in the final rule.

Focusing participation on high-priority watersheds will reduce the administrative burden on applicants and the costs of processing a large number of applications that would not be funded. For example, the economic analysis conducted by NRCS as required for rule development estimates that as many as 500,000 producers might apply for enrollment in each CSP sign-up and that current funding would only support about 3,000 contracts. Therefore, the majority of applicants would have completed an extensive application process only to be denied participation due to the limitation on funding. Additionally, NRCS would have incurred technical assistance costs in program eligibility determinations for up to 497,000 producers who would not be able to participate in CSP. NRCS believes that focusing the program's resources on applications that have a high probability of getting funded would maximize environmental benefits because a higher portion of the TA would be used to support actual conservation practices and activities.

Watershed Ranking

Three broad options were considered for ranking watersheds. Each option contains certain common attributes: quantifiable, objective data that can be aggregated at the 8-digit Hydrologic Unit Code (HUC) scale; support the philosophy and intent of CSP to support on-going conservation stewardship of working agricultural lands; and improve the Agency's ability to measure program performance (determining benefits and effects).

Option 1—Using National Resources Inventory (NRI) Data

Option 1 was suggested in the proposed CSP rule as one method of ranking watersheds. The rule proposes that NRCS “* * * identify watersheds (using eight-digit hydrologic unit codes developed by the U.S. Geological Survey) around the Nation based on objective information from natural resource, environmental quality, and agricultural activity data. The watershed prioritization process will consider several factors, including the vulnerability of surface and groundwater quality, the potential for excessive soil quality degradation, and the condition of grazing land in the watershed.” (69 FR 198, January 2, 2004)

The NRCS's NRI data representing the factors cited in the rule were aggregated by 8-digit hydrologic unit (HUC) delineations to test this Option. Option 1 has the advantage of NRCS experience with this approach, since it was used as a basis for developing State level allocations for initial EQIP implementation. Additionally, NRCS collects and analyzes the NRI data and, therefore, the Agency has a high degree of understanding about how the data can be used. This familiarity also lends itself to quicker, more efficient problem solving and data manipulation. On the other hand, the NRI was not designed for estimate reliability at the 8-digit HUC level, thus estimates may be inadequate in some watersheds.

Option 2—Using Stewardship Activities

Option 2 is almost exclusively focused on identifying and rewarding those farmers and ranchers meeting the very highest standards of conservation and environmental management on their operations. At the first level, allowable land uses are analyzed (cropland, pasture, grazing lands, orchards/vineyards) for possible eligibility. In the next level each land use is defined by predominant management categories such as: managing fertilizers and nutrients; managing pests; managing crops and soil; and managing grazing land. Each category is further represented by a selection of conservation practices as surrogates to represent prevalence of practice adoption within watersheds.

A map would be generated from the NRCS performance measurement system data showing areas of concentrated practice adoptions. This map would then be used alone or in combination with other surrogate factors to overlay 8-digit HUC maps. The resulting composite map would show which watersheds have some of the best conservation stewards working with NRCS. A similar process would be used for all management categories and, ultimately, a comprehensive watershed ranking map could be produced. Option 2 has the advantages of supporting the philosophy and intent of CSP to recognize ongoing conservation stewardship of working agricultural lands; the performance data is collected and analyzed by the Agency, which has a high degree of understanding about how the data can be used resulting in quicker, more efficient problem solving and data manipulation. On the other hand, the option does not account for stewardship activities that occur without NRCS assistance, captures only recent conservation activities, and gives no recognition to stewards who have been practicing conservation over the long-term. Additionally, this option relies heavily on NRCS administrative data. Analysis is limited to recognition of stewardship, and little or no recognition is accorded natural resource vulnerability.

Option 3—Combination Approach

Option 3 is a combination watershed approach that uses quantifiable datasets and a rigorous sorting procedure consisting of four phases: I. Land use eligibility, II. Input intensities, III. Stewardship, and IV. Development of a composite ranking.

The first phase, land use representation, is defined by the four land uses eligible for CSP: cropland, rangeland, pastureland, and orchards/vineyards. The 1997 NASS National Agriculture Census (1997 Census) data on land in farms were used to examine the spatial distribution of these eligible lands across the country. The 1997 Census data also reflect incidental land uses on farms, such as woodlots, that might not be represented by other data sources but are included for the CSP. The eligible acres were aggregated by 8-digit HUC and ranked nationally based on the concentration of eligible lands within the watershed.

Phase II of the approach was designed to represent input intensities, defined as additions to the land that have a potential to cause soil and water quality degradation. Input intensities data drawn from the 1997 Census included acreage where pesticides, fertilizers, and manure were applied. These data were aggregated by 8-digit HUC and ranked nationally. The input intensity maps identify watersheds with the greatest concentration of acreage receiving inputs, as a representation of potential soil and water quality deterioration.

Phase III of the combination approach was stewardship activity, defined as prevalence of historic and recent application of conservation practices. NRI data were used to show the distribution of watersheds having the greatest extent of applied conservation practices for the period 1982 to 1997. The 2002 NRCS performance data were used to show the distribution of watersheds having the greatest acreages of more recently applied conservation practices selected to reflect an operator's stewardship. These data—historic and current conservation—were aggregated by 8-digit HUC and ranked nationally to identify watersheds with the greatest “presence” of historic and on-going conservation practice adoption.

In the final phase, the watershed rankings from phases I-III were combined to reflect a summation watershed rank reflecting all three criteria areas. Then the watersheds were re-ranked to reflect overall national status in regards to land use eligibility, input intensities, and stewardship. Watersheds were then ranked against each other within their respective Economic Research Service Farm Production Regions to allow more balanced comparisons among States, to produce a national perspective of potential priority watersheds, and to represent the broadest range of operation types and sizes.

This regional context was selected to distribute limited funds and numbers of contracts as widely across the landscape as possible in the first sign-up. Although not used for the FY 2004 selection, the data can also be extracted at the State boundary level with a process which would take interstate watersheds into consideration. This process will be described in the final rule.

Option 3 has the advantages of accounting for concentration of eligible land, input intensity, and stewardship information in combination; the Agency has experience with the components of this approach; and there is a high degree of understanding about how the data can be properly used on a national scale.

Watershed Prioritization

Introduction

The ranking process outlined above would array watersheds based on an analysis of quantitative data relative to watershed condition and stewardship activities. A need remains however, to take into account economic, political, institutional, and public acceptance considerations.

To account for these, watersheds may be prioritized and targeted for attention and action according to a number of criteria and weighting factors. Applying weighting factors to the ranked watersheds may be appropriate to achieve the intent of the program. There are several ways that weighting might occur.

Option 1—Selecting the “Worst” Watersheds

Typically, public dollars and restoration efforts have been directed to those watersheds with the most severe conditions, the most sensitive to change, or those that are at risk of impairment. This is particularly true with water quality concerns. The approach tries to ensure that those landscapes that are the most damaged, sensitive, or at risk receive additional consideration in the prioritization process by assigning a higher weighting factor for degree of degradation or vulnerability (input intensities).

Option 2—Selecting the “Best” Watersheds

The CSP is a voluntary program that provides financial and technical assistance to producers who advance conservation and improvement of soil, water, air, energy, plant and animal life, and other conservation purposes on eligible Tribal and private working lands. The approach: (a) Identifies and rewards farmers and ranchers meeting the high standards of conservation and environmental management on their operations; (b) creates incentives for other producers to meet those same standards; and (c) provides public benefits for future generations. In short, the philosophy and intent of the CSP is to “reward the best and motivate the rest.” This option could apply high weighting factors for stewardship activities in the prioritization process.

Option 3—Selecting “Improving” Watersheds—Recommended Approach

Another way to prioritize watersheds for CSP implementation is to focus on those watersheds that have a balance of natural resource problems and on-going stewardship activities. This approach focuses on those watersheds where input intensity is not the highest and stewardship could be increased measurably—that is, watersheds where there is a good chance to improve baseline conditions. They have some resource vulnerabilities, but not the most severe. They also have some stewardship activities, but not necessarily the highest participation. This scenario might use higher yet equal weighting factors for input intensities and stewardship, so that it is their combination that is represented in the final analysis.

Management Options

After watersheds have been ranked and prioritized, additional management overlays were considered to enhance the efficiency of program delivery and to align more closely with State priorities.

Option 1—Management Overlays

This option focuses on administrative efficiencies primarily to reduce the costs of program administration, ensure the eligible contracts can be processed in a timely manner, reduce the participant's time in preparing application data, and, ultimately, to assist in performance appraisal of the program's effectiveness. It is intended that this option be used as one of several final checks in combination with the ranked/prioritized watersheds. Option 1 has the advantages of providing more predictable successes during the first year of a new and innovative conservation program, and further refines the pool of resource-priority watersheds to those that also had the capacity for effective implementation.

Option 2—Comparative Overlays for State Alignment

States and Tribes may view the proposed watershed ranking and prioritization as redundant to their own efforts at prioritization, especially with efforts such as the Unified Watershed Assessment (UWA) process instituted by the States during the mid-1990's. The UWAs continue to be widely used by some States as a basis for much of their water quality and watershed restoration work accomplished under Clean Water Act section 319 programs and other Federally-funded efforts.

This option acknowledges the important contributions of existing State analyses, and provides a mechanism for the inclusion of State data to address unique circumstances and conditions that might not be recognized in the watershed ranking and prioritization system. The State level data layers would be combined into a seamless national layer for use in a nationwide analysis. This could include, but not be limited to, spatial information on species of concern or of pollution control planning elements such as Total Maximum Daily Loads.

Summary

There are a variety of options to consider when applying ranking and prioritization to 8-digit watersheds for purposes of program delivery. The proposed strategy centers on a combination of three distinct analysis levels.

1. Rank watersheds using a composite approach that integrates distribution of eligible land uses, input intensities, and stewardship.

2. Apply weighting factors to the ranking criteria to select watersheds that best represent the philosophical foundation of CSP—treating resource issues and rewarding conservation stewards.

3. Using the set of prioritized watersheds, apply considerations of administrative capacity and opportunity for State-based considerations, as well as testing the watershed concept.

Enrollment Categories

In managing the CSP, the NRCS will establish and operate a system of enrollment categories whenever necessary to conduct the program in an orderly fashion and remain within any statutory budget and technical assistance caps as described in the proposed rule (7 CFR part 1469.6). In addition to the statutorily mandated contract requirements, the categories will consider the applicants' current stewardship (soil condition, tillage intensity, existing practices and activities) and will sort producers based on these factors. Categories will also examine producers' willingness to perform additional conservation activities during their CSP contract.

All applications which meet the sign-up criteria will be placed in an enrollment category regardless of available funding. An application will be placed in the highest enrollment category level for which the application qualifies. For example, on cropland, a farmer must meet the minimum requirements for soil quality and water quality within a watershed designated for a particular sign-up to be eligible for CSP. Upon entry, the NRCS will determine the appropriate enrollment category placement for the application. Using the category descriptions below, if the cultivated cropland: (1) Meets a Soil Conditioning Index at least 0.1 and a Soil Tillage Intensity Rating less than 30; (2) has at least three Stewardship Practices from the list included in this document in place for two or more years; (3) has at least three Stewardship Activities from the list included in this document in place for two or more years; and (4) the applicant agrees to: (a) Move to the next Tier or to complete two additional Stewardship Practices or Activities from the list included in this document; and (b) conduct an on-farm project or assessment and evaluation activity, then the application will be placed in the highest category, Category A. Applications that meet minimum program eligibility requirements as defined in 7 CFR part 1469, but do not include additional conservation treatment, will be placed in the lowest category, Category H.

Within all eligible watersheds, funding would be distributed to applications beginning with the highest enrollment category; Category A. Criteria are designed to assure that funding will be directed first to those producers with the highest commitment to conservation. Once the highest enrollment category applications are funded within eligible watersheds, the next category would be funded, etc. Funding would be distributed to each succeeding category nationally until funding is exhausted. Situations will arise where applications have multiple lands uses that fall into different enrollment categories. The final rule will describe how the agency will sort such applications.

This notice will serve as the public notice of the construction of the enrollment categories. Tables illustrating the enrollment category described are available online at http://www.nrcs.usda.gov/programs/csp/.

Description of criteria for enrollment categories for cropland and orchards, vineyards, horticultural crops, and permanent hayland. The first four criteria, Soil Conditioning Index (SCI), Soil Tillage Intensity Rating (STIR) and the number of stewardship practices and activities that are in place at sign-up, are intended to indicate historical conservation stewardship.

The SCI is a numerical rating tool used to identify the trend of soil carbon for given conservation management systems, which are key indicators of the status of soil quality. A positive SCI indicates the trend is upward; a negative SCI indicates the trend is downward. The STIR model was selected in order to give a numerical rating to identify operations in which soil disturbance is kept to a minimum. The rating allows for flexibility in tillage methods and crop rotations as well as removes any confusion with regard to semantics or local terminology for tillage system descriptions. The category limits for the STIR ratings on cultivated cropland approximate the differentiations made in the Residue Management Standard 329. Tillage practices commonly referred to as no-till, direct seed, or zero tillage under practice 329A would be those with the lowest STIR. Mulch tillage (329B) and operations that rotate tillage between no-till and other more intense forms would be described in the next categories. Tillage systems with STIR ratings greater than 100 are typically considered conventionally tilled systems.

STIR was selected as a criteria tool because it adds value to the SCI criteria and does not give bias toward any specific landscape, soil, or cropping region. The SCI provides trends in soil carbon which leads to a host of benefits, but positive SCIs associated with very low-erosive landscapes may still allow for significant tillage and favor operators with these conditions rather than their conservation stewardship. STIR limits disturbance and provides for increased improvement in soil physical properties. The limits on soil disturbance also provide an energy benefit from the reduction in field operations.

Stewardship Practices and Stewardship Activities are intended to identify the long-term steward that has applied conservation over the years as the need or new technology has arisen. The more practices, the more likely it is that the operator has continually addressed conservation and resource needs. However, there may be instances where conservation measures may have been applied in order to bring or maintain marginally suitable lands into production or into compliance with the farm legislation. For this reason, Stewardship Activities address the actions taken to reduce or eliminate negative environmental impacts in and outside the boundaries of the field. Stewardship Practices and Activities must be in place two years prior to sign-up to qualify.

Enhancement Activities are designed to identify those who are willing to increase their level of stewardship, since remaining static in one's conservation efforts is not a top priority of CSP. Efforts to increase environmental stewardship by moving to the next tier or intensifying current management take top priority in the assignment of categories. In addition, willingness to add to the state of knowledge regarding conservation practices or educate others through assessment, evaluation, on-farm demonstrations, etc., is required of the top categories. Those not willing to increase their stewardship, but willing to contribute to the above activities, are identified as the next priority and those unwilling to do either fall to lower categories.

Cropland (row crops, closely grown crops, hay or pasture in rotation with row or closely grown crops, orchards, vineyards, horticultural crops, and permanent hayland). Category A must: (1) Meet a SCI of at least 0.1 and STIR less than 30; (2) have at least three Stewardship Practices from the list included in this document in place for two or more years; (3) have at least three Stewardship Activities from the list included in this document in place for two or more years; and (4) agree to (a) move to the next CSP Tier or complete two additional Stewardship Practices or Activities from the lists in this document and (b) conduct an on-farm project or assessment and evaluation activity.

Category B must: (1) Meet a SCI of at least zero and STIR less than 30; (2) have at least three Stewardship Practices from the list included in this document in place for two or more years; (3) have at least three Stewardship Activities from the list included in this document in place for two or more years; and (4) agree to (a) move to the next CSP Tier or complete two additional Stewardship Practices or Activities from the lists in this document and (b) conduct an on-farm project or assessment and evaluation activity.

Category C must: (1) Meet a SCI of at least 0.1 and a STIR less than 60; (2) have at least two Stewardship Practices from the list included in this document in place for two or more years; (3) have at least two Stewardship Activities from the list included in this document in place for two or more years; and (4) agree to: (a) complete two additional Stewardship Practices or Activities from the lists in this document; and (b) conduct an on-farm project or assessment and evaluation activity.

Category D must: (1) Meet a SCI at least zero and a STIR less than 60; (2) have at least two Stewardship Practices from the list included in this document in place for two or more years; (3) have at least two Stewardship Activities from the list included in this document in place for two or more years; and (4) agree to: (a) complete two additional Stewardship Practices or Activities from the lists in this document; and (b) conduct an on-farm project or assessment and evaluation activity.

Category E must: (1) Meet a SCI at least 0.1 and STIR less than 60; (2) have at least two Stewardship Practices from the list included in this document in place for two or more years; (3) have at least one Stewardship Activity currently applied from the list included in this document; and (4) agree to: (a) complete two additional Stewardship Practices or Activities from the lists in this document; and (b) conduct an on-farm project or assessment and evaluation activity.

Category F must: (1) Meet a SCI of at least zero and STIR less than 100; (2) have at least one Stewardship Practice from the list included in this document in place for two or more years; (3) have at least two Stewardship Activities from the list included in this document in place for two or more years; and (4) agree to: (a) complete two additional Stewardship Practices or Activities from the lists in this document; and (b) conduct an on-farm project or assessment and evaluation activity.

Category G must: (1) Meet a SCI of at least zero and STIR less than 100; (2) have at least one Stewardship Practice from the list included in this document in place for two or more years; (3) have any number of Stewardship Activities from the list included in this document in place for two or more years; and (4) agree to complete two additional Stewardship Practices or Activities from the lists included in this document.

Category H must: meet the minimum program eligibility requirements as defined in 7 CFR 1469 and not agree to do additional actions.

Stewardship practices are those key conservation actions that have an NRCS practice standard in the Field Office Technical Guide. The stewardship practices eligible to determine enrollment categories above for cropland, orchards, vineyards, horticultural crops, and permanent hayland with their corresponding identification number include:

• Alley Cropping (311)

• Atmospheric Resources Quality Management (370)

• Conservation Crop Rotation (328)

• Constructed Wetland (656)

• Contour Buffer Strips (332)

• Contour Orchard and Other Fruit Area (331)

• Cover Crop (340)

• Cross Wind Ridges (589A)

• Cross Wind Trap Strips (589C)

• Drainage Water Management (554)

• Field Border (386), Filter Strip (393)

• Forage Harvest Management (511)

• Hedgerow Planting (422)

• Herbaceous Wind Barriers (603)

• Hillside Ditch (423)

• Irrigation System-Micro-irrigation (441)

• Irrigation Water Management (449)

• Lined Waterway or Outlet (468)

• Low Disturbance Cropping (No-till/Strip-till/Direct Seed) (329d1)

• Pasture and Hay Planting (512)

• Residue Management—No Till (to reseed permanent hayland or No Till of 5 years or more in cultivated crop land) (329A)

• Riparian Forest Buffer (391)

• Riparian Herbaceous Cover (390)

• Sediment Basin (350)

• Soil Salinity Management-Nonirrigated (571)

• Stripcropping (585)

• Structure for Water Control (587)

• Water & Sediment Control Basin (638)

• Well Decommissioning (351)

• Windbreak/Shelterbelt Establishment (380)

Stewardship activities are those key conservation actions that do not have a specific practice standard in the FOTG but have defined local actions necessary that, when applied to a field, mitigate off-site resource damage or improve soil and/or water quality.

The stewardship activities eligible to determine enrollment categories above for cropland, orchards, vineyards, horticultural crops, and permanent hayland:

• Addition of soil amendments such as polyacrylamide (PAM) and gypsum

• Collection of yield data

• Conduct spraying activities and other control of noxious/invasive weeds on a spot basis

• Harvest crops from center of field outward

• Increase amount of sod or perennial crops in rotation for a minimum of 2 years

• Irrigation system efficiency evaluations and adjustment

• Low energy precision application sprinklers

• Minimize the use of pesticides by using pest resistant plant varieties

• Precise application of nutrients, such as banding, side dressing, injection, fertigation

• Split nitrogen application to meet crop needs

• Surge irrigation

• Test soil and/or plant tissue on annual basis

• Use a risk assessment tool such as WINPST to select the least toxic product to minimize harmful effects on human health and environmental resources

• Use established local integrated pest management guidelines to set economic thresholds for pests to minimize use of pesticides and herbicides

• Use of beneficial insects

• Use of on-farm weather station data

• Use of tensiometers or other techniques to assess and improve irrigation water management

• Use of yield monitoring data.

• Weather stations installation and/or data collection

Description of criteria for enrollment categories for Pasture and Range. Pasture and range use the Pasture Condition Score and Rangeland Health Assessment, respectively, to identify the condition of the resource. The intent of pasture condition scoring is to provide pasture producers with a standard method to identify shortfalls in pasture care and pinpoint what can be done to improve pasture condition. Pasture condition scoring is done in the field using score sheet criteria and some basic data gathering. Ten easily observed indicators are used to assess pasture condition. Each indicator's condition is estimated and scored separately on a score sheet using a range of 1 (lowest) to 5 (highest). These scores may be combined into an overall score for the pasture unit or left as an individual score and compared with the other nine indicators. Indicators receiving the lowest scores can be focused upon for corrective action as warranted. The ten indicators are percent desirable plants, plant cover, plant diversity, plant residue, plant vigor, percent legume, uniformity of use, livestock concentration areas, soil compaction, and erosion (sheet & rill, gully, streambank and shoreline, and wind). If scoring the pasture for the first time or when plant vigor is rated 3 or lower thereafter, six nationally important causative factors should also be rated. They are: Soil fertility, soil reaction (pH), severity of use, site adaptation of forage species, climatic stresses, and insect/disease pressure. Where soil levels of salt, sodium, and toxic elements, such as aluminum, commonly affect pasture condition regionally, regionally established rating criteria are used to measure and rate them. By using pasture condition scoring to rate pastures over a period of time, trends in decline or improvement can be detected and adjustments made as needed or desired.

Pasture condition scoring was chosen for assessing CSP enrollment categories for the pasture lands use because the condition of the pasture plant community and soil surface directly impact and reflect upon soil and water quality. The highest pasture condition will yield the highest soil quality and the most sustained discharge of the highest quality water.

The key publication assessing rangeland health “Interpreting Indicators for Rangeland—Technical Reference 1734-6 and two publications about pasture condition scoring, “Guide to Pasture Condition Scoring” and “Pasture Condition Score Sheet” can found at the USDA-NRCS Web site: http://www.glti.nrcs.usda.gov/technical/publications/index.html. The range health booklet was developed through interagency coordination between the BLM, NRCS, ARS, and USGS. It provides land specialists with the tools to do a preliminary evaluation of soil/site stability, hydrologic function, and integrity of the biotic community on rangelands. The Pasture Guide describes each of these indicators and its importance coupled to maintaining a well-functioning pasture. The Score Sheet is used to record the current conditions and identify areas of pasture management that may need improvement.

Rangeland health is the status of the soil, water, and biological resources in rangeland ecosystems. The Rangeland Health Assessment evaluates the degree to which the integrity of the soil, vegetation, water, and air, as well as the ecological processes of the rangeland ecosystem, is balanced and sustained. Integrity is defined as maintenance of the structure and functional attributes characteristic of a particular locale, including normal variability.

The key publication assessing rangeland health, “Guide to Pasture Condition Scoring” and “Pasture Condition Score Sheet” can found at the USDA-NRCS Web site: http://www.glti.nrcs.usda.gov/technical/publications/index.html. The Guide describes each of these indicators and its importance coupled to maintaining a well-functioning pasture. The Score Sheet is used to record the current conditions and identify areas of pasture management that may need improvement.

Pasture

Category A must: (1) Meet an overall Pasture Condition Score of at least 45; (2) have at least three Stewardship Practices from the list included in this document in place for two or more years; (3) have at least three Stewardship Activities from the list included in this document in place for two or more years; and (4) agree to: (a) Move to the next Tier or to complete two additional Stewardship Practices or Activities; and (b) conduct an on-farm project or assessment and evaluation activity.

Category B must: (1) Meet an overall Pasture Condition Score of at least 35; (2) have at least three Stewardship Practices from the list included in this document in place for two or more years; (3) have at least three Stewardship Activities from the list included in this document in place for two or more years; and (4) agree to: (a) Move to the next Tier or to complete two additional Stewardship Practices or Activities; and (b) conduct an on-farm project or assessment and evaluation activity.

Category C must: (1) Meet an overall Pasture Condition Score of at least 45; (2) have at least two Stewardship Practices from the list included in this document in place for two or more years; (3) have at least two Stewardship Activities from the list included in this document in place for two or more years; and (4) agree to: (a) Complete two additional Stewardship Practices or Activities; and (b) conduct an on-farm project or assessment and evaluation activity.

Category D must: (1) Meet an overall Pasture Condition Score of at least 35; (2) have at least two Stewardship Practices from the list included in this document in place for two or more years; (3) have at least two Stewardship Activities from the list included in this document in place for two or more years; and (4) agree to: (a) Complete two additional Stewardship Practices or Activities; and (b) conduct an on-farm project or assessment and evaluation activity.

Category E must: (1) Meet an overall Pasture Condition Score of at least 35; (2) have at least two Stewardship Practices from the list included in this document in place for two or more years; (3) have at least one activity from the list included in this document in place for two or more years; and (4) agree to complete two additional Stewardship Practices or Activities, or an on-farm project or assessment and evaluation activity.

Category F must: (1) Meet an overall Pasture Condition Score of at least 25; (2) have at least one Stewardship Practice from the list included in this document in place for two or more years; and (3) and at least two Stewardship Activities from the list included in this document in place for two or more years; and (4) agree to complete two additional Stewardship Practices or Activities, or conduct an on-farm project or assessment and evaluation activity.

Category G must: (1) Meet an overall Pasture Condition Score of at least 25; (2) have at least one Stewardship Practice from the list included in this document in place for two or more years; (3) have any number of Stewardship Activities from the list included in this document in place for two or more years; and (4) agree to complete two additional Stewardship Practices or activities from the list included in this document.

Category H must: Meet the minimum program eligibility requirements as defined in 7 CFR 1469 and not agree to do additional actions.

Stewardship practices are those key conservation actions that have an NRCS practice standard in the FOTG. The stewardship practices eligible to determine enrollment categories above for pasture with their corresponding identification number include:

• Animal Trails and Walkways (575)

• Brush Management (314)

• Channel Bank Vegetation (322)

• Fence (for sensitive area protection only) (382)

• Grassed Waterway (412)

• Grazing Land Mechanical Treatment (516)

• Irrigation Water Management (449)

• Pasture and Hay Planting (512)

• Pipeline (516), Pond (378)

• Prescribed Burning (338)

• Riparian Herbaceous Cover (390)

• Soil Salinity Management—Nonirrigated (571)

• Spring Development (574)

• Streambank and Shoreline Protection (580)

• Stream Crossing (578)

• Watering Facility (614)

• Waste Utilization (pathogen and organic runoff control) (633)

• Water & Sediment Control Basin (638)

• Water Well (642)

The stewardship activities on pasture include:

• Added functional group pastures

• Confinement animal wastes, if applied, are injected

• Grazing distribution facilitated by watering locations, based on locally identified distances between water locations and water available in each sub-divided pasture

• Improved laneways.

• Increased plant diversity—forbs and legumes greater than 40%

• Integrated pest management activities for weeds, brush, insects, or diseases

• Interseeding

• Livestock ponds and watering areas have controlled access point or outfitted with watering facility

• Pastured bottomland or riparian area treated as a separate grazing treatment unit and alternative watering facilities in place

• Rotate feeding and salting areas

• Rotational grazing

• Test soil and/or plant tissue test every 3 years on pastures not receiving confinement wastes

• Use of decision support tools in developing grazing management plans, such as Grazing Lands Spatial Analysis Tool (GSAT), Nutritional Balance Analyzer (NUTBL), Water Erosion Prediction Project (WEPP), etc.

• Where confinement wastes are applied, test soil and/or plant tissue on annual basis prior to next application

• Where fertilizer nitrogen is applied, split applications to meet current crop needs.

Rangeland

Category A must: (1) Meet a Rangeland Health Assessment of none to slight for all three attributes; (2) practice Prescribed Grazing, plus have three or more Stewardship Practices or Activities from the list included in this document in place for two or more years, including brush management or range seeding resource needs adequately addressed; and (3) agree to: (a) move to the next Tier or to complete two additional Stewardship Practices or Activities; and (b) conduct an on-farm project or assessment or evaluation activity from the list included in this document by the end of the third contract year.

Category B must: (1) Meet a Rangeland Health Assessment of none to slight for all three attributes; (2) practice Prescribed Grazing, plus have two or more Stewardship Practices or Activities from the list included in this document in place for two or more years, including brush management or range seeding resource needs adequately addressed; and (3) agree to: (a) move to the next Tier or to complete two additional Stewardship Practices or Activities; and (b) conduct an on-farm project or assessment or evaluation activity from the list included in this document by the end of the third contract year.

Category C must: (1) Meet a Rangeland Health Assessment of none to slight for two attributes and slight to moderate for one attribute; (2) practice Prescribed Grazing, plus have three or more Stewardship Practices or Activities from the list included in this document in place for two or more years, including brush management or range seeding resource needs adequately addressed; and (3) agree to: (a) complete two additional Stewardship Practices or Activities; and (b) conduct an on-farm project or assessment or evaluation activity from the list included in this document by the end of the third contract year.

Category D must: (1) Meet a Rangeland Health Assessment of none to slight for two attributes and slight to moderate for one attribute; (2) practice Prescribed Grazing, plus have two or more Stewardship Practices or Activities from the list included in this document in place for two or more years, including brush management or range seeding resource needs adequately addressed; and (3) agree to: (a) complete two additional Stewardship Practices or Activities; and (b) conduct an on-farm project or assessment or evaluation activity from the list included in this document by the end of the third contract year.

Category E must: (1) Meet a Rangeland Health Assessment of none to slight for two attributes and slight to moderate for one attribute; (2) practice Prescribed Grazing, plus have two or more Stewardship Practices or Activities from the list included in this document in place for two or more years, including brush management or range seeding resource needs adequately addressed; and (3) agree to complete two additional Stewardship Practices or Activities or conduct an on-farm project or assessment or evaluation activity from the list included in this document by the end of the third contract year.

Category F must: (1) Meet a Rangeland Health Assessment of none to slight for one attribute and slight to moderate for two attributes; (2) practice Prescribed Grazing, plus have two or more Stewardship Practices or Activities from the list included in this document in place for two or more years; and (3) agree to complete two additional Stewardship Practices or Activities or conduct an on-farm project or assessment or evaluation activity from the list included in this document by the end of the third contract year.

Category G must: (1) Meet a Rangeland Health Assessment of slight to moderate for two attributes; (2) practice Prescribed Grazing, plus have one or more Stewardship Practices or Activities from the list included in this document in place for two or more years; and (3) agree to complete two additional Stewardship Practices or Activities from the list included in this document by the end of the third contract year.

Category H must: Meet the minimum sign-up requirements.

Stewardship Practices eligible to determine enrollment categories above for rangeland with their corresponding identification number include:

• Animal Trails and Walkways (575)

• Brush Management (314)

• Channel Bank Vegetation (322)

• Channel Stabilization (584)

• Fence (for sensitive area protection only) (382)

• Grazing Land Mechanical Treatment (548)

• Pipeline (516)

• Pond (378)

• Range Planting (550)

• Riparian Herbaceous Cover (390)

• Spring Development (574)

• Streambank and Shoreline Protection (580)

• Stream Crossing (578)

• Watering Facility (614)

• Water and Sediment Control Basin (638)

• Wetland Enhancement (659)

• Wetland Restoration (657)

Stewardship Activities eligible to determine enrollment categories above for rangeland include:

• Application of monitoring protocols

• Brush and weed management utilizing integrated techniques that include follow-up treatment

• Management that provides for upland wildlife habitat improvement

• Management that provides for wetland wildlife habitat improvement

• Management that provides for wetland shallow water wildlife habitat improvement

• Managing vegetative fuels to reduce wildfire hazards

• Modify brush management design to create a mosaic or pattern to enhance wildlife habitat linkages and corridors

• Participating in grassbanking

• Prescribed burn prescriptions designed to create a mosaic or pattern to enhance wildlife habitat linkages and corridors

• Use of decision support tools in developing grazing management plans, such as Grazing Lands Spatial Analysis Tool (GSAT), Nutritional Balance Analyzer (NUTBL), Water Erosion Prediction Project (WEPP), etc.

• Vegetation manipulation to reduce sediment and other pollutants in surface runoff.

Signed in Washington, DC, on April 28, 2004.
Bruce I. Knight,
Vice President, Commodity Credit Corporation, Chief, Natural Resources Conservation Service.

[FR Doc. 04-10031 Filed 5-3-04; 8:45 am]

BILLING CODE 3410-16-P